DEPARTMENT OF AGRICULTURE

Forest Service

Southwest Mississippi Resource Advisory Committee; Meeting

AGENCY: Forest Service, USDA.

ACTION: Notice of meeting.

SUMMARY: The Southwest Mississippi Resource Advisory Committee will meet in Meadville, MS. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to review and select proposed projects.

DATES: The meeting will be held September 15, 2011, 6:00 p.m

ADDRESSES: The meeting will be held at Homochitto District Work Center, 3085 Hwy 98 East, Meadville, MS. Written comments may be submitted as described under Supplementary Information. All comments, including names and addresses when provided, are placed in the record and are available for public inspection and copying. The public may inspect comments received at the Homochitto District office, 1200 Hwy 184E, Meadville, MS. Please call ahead to 601-384-5876 to facilitate entry into the building to view comments.

FOR FURTHER INFORMATION CONTACT: Bruce Prudhomme, District Ranger, 601-384-5876, bprudhomme@fs.fed.us or Dave Chabreck, Operations Leader, 601-384-5876, dochabreck@fs.fed.us.

Individuals who use telecommunication devices for the deaf (TDD) may call the Federal Information Relay Service (FIRS) at 1-800-877-8339 between 8:00 a.m. and 8:00 p.m., Eastern Standard Time, Monday through Friday. Requests for reasonable accomodation for access to the facility or proceedings may be made by contacting the person listed under For Further Information.

SUPPLEMENTARY INFORMATION: The following business will be conducted: General business, previous project status updates, project funding, review and selection of proposed projects. Full agenda may be previewed at Homochitto District office during regular business hours or on the Web at https://fsplaces.fs.fed.us/fsfiles/unit/wo/secure_rural_schools.nsf/RAC/Southwest+Mississippi. Anyone who would like to bring related matters to the attention of the committee may file written statements with the committee staff before or after the meeting. The agenda will include time for people to make oral statements of three minutes or less. Individuals wishing to make an oral statement should request in writing by September 14, 2011 to be scheduled on the agenda. Written comments and requests for time for oral comments must be sent to 1200 Hwy 184 East, Meadville, MS 39653, or by email to dochabreck@fs.fed.us, or via facsimile to 601-384-2172. A summary of the meeting will be posted at https://fsplaces.fs.fed.us/fsfiles/unit/wo/secure_rural_schools.nsf/RAC/Southwest+Mississippi within 21 days of the meeting.

Dated: August 10, 2011.
Bruce Prudhomme,
District Ranger.

]

[FR Doc. 2011-21178 Filed 8-18-11; 8:45 am]

BILLING CODE 3410-11-P